DEPARTMENT OF TRANSPORTATION

Federal Aviation Administration

14 CFR Part 97

[Docket No. 31256; Amdt. No. 3855]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 5, 2019. The compliance date for each SIAP, associated Takeoff Minimums, and ODP is specified in the amendatory provisions.

The incorporation by reference of certain publications listed in the regulations is approved by the Director of the Federal Register as of July 5, 2019.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on May 31, 2019.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 18 July 2019

Falmouth, MA, Cape Cod Coast Guard Air Station, COPTER ILS Y OR LOC Y RWY 23, Amdt 2A

Fitchburg, MA, Fitchburg Muni, NDB-A, Amdt 4C, CANCELLED

Ogdensburg, NY, Ogdensburg Intl, RNAV (GPS) RWY 9, Amdt 1A

Effective 15 August 2019

Hooper Bay, AK, Hooper Bay, RNAV (GPS) RWY 13, Amdt 1C

Hooper Bay, AK, Hooper Bay, RNAV (GPS) RWY 31, Amdt 1C

Nome, AK, Nome, VOR/DME RWY 10, Amdt 3, CANCELLED

St Paul Island, AK, St Paul Island, ILS OR LOC RWY 36, Amdt 4

Talkeetna, AK, Talkeetna, RNAV (GPS) RWY 1, Amdt 1A

Talkeetna, AK, Talkeetna, RNAV (GPS) RWY 19, Orig-A

Talkeetna, AK, Talkeetna, VOR RWY 1, Amdt 3A

Muscle Shoals, AL, Northwest Alabama Rgnl, ILS Y OR LOC Y RWY 30, Orig-B

Muscle Shoals, AL, Northwest Alabama Rgnl, ILS Z OR LOC Z RWY 30, Amdt 6B

Muscle Shoals, AL, Northwest Alabama Rgnl, RNAV (GPS) RWY 12, Amdt 2B

Muscle Shoals, AL, Northwest Alabama Rgnl, RNAV (GPS) RWY 30, Amdt 2B

Muscle Shoals, AL, Northwest Alabama Rgnl, VOR RWY 12, Amdt 6B

Jonesboro, AR, Jonesboro Muni, RNAV (GPS) RWY 23, Amdt 1B

North Little Rock, AR, North Little Rock Muni, Takeoff Minimums and Obstacle DP, Orig-A

Fresno, CA, Fresno Chandler Executive, RNAV (GPS) RWY 12, Amdt 1

Fresno, CA, Fresno Chandler Executive, RNAV (GPS) RWY 30, Amdt 1

Fresno, CA, Fresno Chandler Executive, Takeoff Minimums and Obstacle DP, Amdt 3

Fresno, CA, Fresno Chandler Executive, VOR/DME OR GPS-C, Amdt 5A, CANCELLED

Hanford, CA, Hanford Muni, RNAV (GPS) RWY 32, Amdt 2

Hanford, CA, Hanford Muni, RNAV (GPS)-B, Amdt 1

Hanford, CA, Hanford Muni, VOR-A, Amdt 10

Akron, CO, Colorado Plains Rgnl, RNAV (GPS) RWY 11, Amdt 2A

Akron, CO, Colorado Plains Rgnl, RNAV (GPS) RWY 29, Amdt 1A

Greeley, CO, Greeley-Weld County, RNAV (GPS) RWY 28, Amdt 1B

Salida, CO, Salida Arpt Harriett Alexander Field, RNAV (GPS)-A, Orig-A

Salida, CO, Salida Arpt Harriett Alexander Field, Takeoff Minimums and Obstacle DP, Amdt 1A

Windsor Locks, CT, Bradley Intl, RNAV (GPS) Y RWY 24, Amdt 4A

Bartow, FL, Bartow Executive, RNAV (GPS) RWY 5, Orig-C

Bartow, FL, Bartow Executive, RNAV (GPS) RWY 9L, Amdt 1C

Bartow, FL, Bartow Executive, RNAV (GPS) RWY 23, Orig-C

Bartow, FL, Bartow Executive, RNAV (GPS) RWY 27R, Amdt 1B

Bartow, FL, Bartow Executive, Takeoff Minimums and Obstacle DP, Orig-A

Bartow, FL, Bartow Executive, VOR RWY 9L, Amdt 2E

Keystone Heights, FL, Keystone Airpark, RNAV (GPS) RWY 5, Orig-A

Keystone Heights, FL, Keystone Airpark, VOR/DME RWY 5, Amdt 1, CANCELLED

Miami, FL, Miami Intl, ILS OR LOC RWY 26L, Amdt 16A

Orlando, FL, Kissimmee Gateway, Takeoff Minimums and Obstacle DP, Orig-A

Palm Coast, FL, Flagler Executive, RNAV (GPS) RWY 11, Amdt 2A

Plant City, FL, Plant City, RNAV (GPS) RWY 10, Amdt 1D

Sarasota/Bradenton, FL, Sarasota/Bradenton Intl, RNAV (GPS) RWY 4, Amdt 2C

Sarasota/Bradenton, FL, Sarasota/Bradenton Intl, RNAV (GPS) RWY 22, Amdt 2B

Tallahassee, FL, Tallahassee Intl, RNAV (GPS) RWY 9, Amdt 2B

Tallahassee, FL, Tallahassee Intl, RNAV (GPS) RWY 18, Amdt 2B

Tallahassee, FL, Tallahassee Intl, RNAV (GPS) RWY 27, Amdt 2C

Umatilla, FL, Umatilla Muni, RNAV (GPS) RWY 1, Orig-B, CANCELLED

Umatilla, FL, Umatilla Muni, RNAV (GPS) RWY 19, Orig-B, CANCELLED

Umatilla, FL, Umatilla Muni, RNAV (GPS)-A, Orig

Umatilla, FL, Umatilla Muni, RNAV (GPS)-B, Orig

Atlanta, GA, DeKalb-Peachtree, RNAV (GPS)-A, Orig

Cochran, GA, Cochran, RNAV (GPS) RWY 29, Amdt 1B

LaGrange, GA, LaGrange-Callaway, ILS OR LOC RWY 31, Amdt 3

LaGrange, GA, LaGrange-Callaway, RNAV (GPS) RWY 3, Amdt 1

LaGrange, GA, LaGrange-Callaway, RNAV (GPS) RWY 13, Amdt 1

LaGrange, GA, LaGrange-Callaway, RNAV (GPS) RWY 31, Amdt 1

LaGrange, GA, LaGrange-Callaway, Takeoff Minimums and Obstacle DP, Amdt 2

LaGrange, GA, LaGrange-Callaway, VOR RWY 13, Amdt 17

Mason City, IA, Mason City Muni, RNAV (GPS) RWY 30, Amdt 1C

Driggs, ID, Driggs-Reed Memorial, RNAV (GPS) RWY 4, Amdt 2A

Bolingbrook, IL, Bolingbrook's Clow Intl, RNAV (GPS)-B, Amdt 1B

Bolingbrook, IL, Bolingbrook's Clow Intl, VOR-A, Amdt 1B

Flora, IL, Flora Muni, RNAV (GPS) RWY 21, Amdt 2D

Indianapolis, IN, Indianapolis Metropolitan, RNAV (GPS) RWY 15, Amdt 2

Marion, IN, Marion Muni, RNAV (GPS) RWY 15, Amdt 1

Coffeyville, KS, Coffeyville Muni, RNAV (GPS) RWY 17, Orig

Colby, KS, Shalz Field, RNAV (GPS) RWY 17, Amdt 1A

Elkhart, KS, Elkhart-Morton County, RNAV (GPS) RWY 35, Amdt 1B

Lawrence, KS, Lawrence Muni, RNAV (GPS) RWY 15, Orig-C

Louisville, KY, Bowman Field, RNAV (GPS) RWY 33, Orig-C

Louisville, KY, Louisville Muhammad Ali Intl, ILS OR LOC RWY 17L, Amdt 5

Louisville, KY, Louisville Muhammad Ali Intl, ILS OR LOC RWY 17R, Amdt 4

Louisville, KY, Louisville Muhammad Ali Intl, ILS OR LOC RWY 35L, ILS RWY 35L SA CAT I, ILS RWY 35L CAT II, ILS RWY 35L CAT III, Amdt 4

Louisville, KY, Louisville Muhammad Ali Intl, ILS OR LOC RWY 35R, ILS RWY 35R SA CAT I, ILS RWY 35R CAT II, ILS RWY 35R CAT III, Amdt 5

Louisville, KY, Louisville Muhammad Ali Intl, Takeoff Minimums and Obstacle DP, Amdt 5A

Williamsburg, KY, Williamsburg-Whitley County, Takeoff Minimums and Obstacle DP, Amdt 2

Abbeville, LA, Abbeville Chris Crusta Memorial, LOC RWY 16, Amdt 1

Minden, LA, Minden, RNAV (GPS) RWY 19, Orig-B

Pittsfield, MA, Pittsfield Muni, RNAV (GPS) RWY 8, Amdt 1B

Easton, MD, Easton/Newnam Field, ILS OR LOC RWY 4, Amdt 2C

Easton, MD, Easton/Newnam Field, RNAV (GPS) RWY 15, Orig-C

Jackman, ME, Newton Field, Takeoff Minimums and Obstacle DP, Orig

Alpena, MI, Alpena County Rgnl, RNAV (GPS) RWY 19, Orig-A

Alpena, MI, Alpena County Rgnl, VOR RWY 19, Amdt 16

Bay City, MI, James Clements Muni, RNAV (GPS) RWY 18, Orig-D

Benton Harbor, MI, Southwest Michigan Rgnl, RNAV (GPS) RWY 10, Amdt 1C

Benton Harbor, MI, Southwest Michigan Rgnl, VOR RWY 28, Amdt 19C

Hancock, MI, Houghton County Memorial, ILS OR LOC RWY 31, Amdt 15A

Hancock, MI, Houghton County Memorial, LOC BC RWY 13, Amdt 12A

Hancock, MI, Houghton County Memorial, RNAV (GPS) RWY 31, Orig-A

Hancock, MI, Houghton County Memorial, VOR RWY 25, Amdt 17C

Fergus Falls, MN, Fergus Falls Muni-Einar Mickelson Fld, RNAV (GPS) RWY 31, Orig-A

Grand Marais, MN, Grand Marais/Cook County, NDB RWY 28, Amdt 1B

Grand Marais, MN, Grand Marais/Cook County, RNAV (GPS) RWY 28, Amdt 3A

Warren, MN, Warren Muni, RNAV (GPS) RWY 30, Orig-A

Camdenton, MO, Camdenton Memorial-Lake Rgnl, VOR-A, Amdt 6

Eldon, MO, Eldon Model Airpark, RNAV (GPS) RWY 18, Orig-B

Eldon, MO, Eldon Model Airpark, RNAV (GPS) RWY 36, Orig-B

Eldon, MO, Eldon Model Airpark, Takeoff Minimums and Obstacle DP, Orig-A

Fort Leonard Wood, MO, Waynesville-St Robert Rgnl Forney Fld, ILS OR LOC RWY 15, Amdt 2

Fort Leonard Wood, MO, Waynesville-St Robert Rgnl Forney Fld, NDB RWY 32, Orig-B, CANCELLED

Fort Leonard Wood, MO, Waynesville-St Robert Rgnl Forney Fld, RNAV (GPS) RWY 15, Amdt 1

Fort Leonard Wood, MO, Waynesville-St Robert Rgnl Forney Fld, RNAV (GPS) RWY 33, Amdt 1

Fort Leonard Wood, MO, Waynesville-St Robert Rgnl Forney Fld, VOR RWY 15, Amdt 1

Fort Leonard Wood, MO, Waynesville-St Robert Rgnl Forney Fld, VOR RWY 33, Amdt 1

Moberly, MO, Omar N Bradley, RNAV (GPS) RWY 31, Orig-B

Hattiesburg-Laurel, MS, Hattiesburg-Laurel Rgnl, ILS OR LOC RWY 18, Amdt 7C

Tupelo, MS, Tupelo Rgnl, NDB RWY 36, Amdt 5B

Glasgow, MT, Wokal Field/Glasgow-Valley County, RNAV (GPS) RWY 12, Orig-B

Glasgow, MT, Wokal Field/Glasgow-Valley County, RNAV (GPS) RWY 30, Orig-B

Glasgow, MT, Wokal Field/Glasgow-Valley County, Takeoff Minimums and Obstacle DP, Orig-A

Glasgow, MT, Wokal Field/Glasgow-Valley County, VOR RWY 12, Amdt 3B

Glasgow, MT, Wokal Field/Glasgow-Valley County, VOR RWY 30, Amdt 4B

Raleigh/Durham, NC, Raleigh-Durham Intl, VOR RWY 5R, Amdt 13F

Beach, ND, Beach, RNAV (GPS) RWY 12, Orig-A

Beach, ND, Beach, RNAV (GPS) RWY 30, Orig-A

Kenmare, ND, Kenmare Muni, RNAV (GPS) RWY 26, Orig-B

Mohall, ND, Mohall Muni, RNAV (GPS) RWY 31, Orig-A

Mohall, ND, Mohall Muni, VOR/DME-A, Orig, CANCELLED

Rugby, ND, Rugby Muni, RNAV (GPS) RWY 12, Orig-C

Gothenburg, NE, Gothenburg Muni, VOR-A, Amdt 3C

Hastings, NE, Hastings Muni, VOR RWY 14, Amdt 17

Holdrege, NE, Brewster Field, VOR-A, Amdt 3A

Kearney, NE, Kearney Rgnl, ILS OR LOC RWY 36, Amdt 3

Kearney, NE, Kearney Rgnl, RNAV (GPS) RWY 13, Orig-C

Kearney, NE, Kearney Rgnl, RNAV (GPS) RWY 18, Amdt 1

Kearney, NE, Kearney Rgnl, RNAV (GPS) RWY 36, Amdt 2

Kearney, NE, Kearney Rgnl, Takeoff Minimums and Obstacle DP, Amdt 2

Kearney, NE, Kearney Rgnl, VOR RWY 18, Amdt 14

Minden, NE, Pioneer Village Field, VOR-A, Amdt 1

Belmar/Farmingdale, NJ, Monmouth Executive, RNAV (GPS) RWY 14, Orig-D

Belmar/Farmingdale, NJ, Monmouth Executive, RNAV (GPS) RWY 32, Orig-C

Belmar/Farmingdale, NJ, Monmouth Executive, VOR-A, Amdt 3C

Lakewood, NJ, Lakewood, VOR RWY 6, Amdt 6B, CANCELLED

Artesia, NM, Artesia Muni, RNAV (GPS) RWY 22, Amdt 1B

Artesia, NM, Artesia Muni, Takeoff Minimums and Obstacle DP, Amdt 1A

Buffalo, NY, Buffalo Niagara Intl, ILS OR LOC RWY 23, ILS RWY 23 SA CAT 1, Amdt 33

Glens Falls, NY, Floyd Bennett Memorial, RNAV (GPS) RWY 30, Orig-C

Cleveland, OH, Cleveland-Hopkins Intl, RNAV (GPS) Y RWY 24R, Amdt 5

Newark, OH, Newark-Heath, VOR-A, Amdt 13A

Shelby, OH, Shelby Community, Takeoff Minimums and Obstacle DP, Amdt 2A

Urbana, OH, Grimes Field, RNAV (GPS) RWY 2, Amdt 1B

Elk City, OK, Elk City Rgnl Business, RNAV (GPS) RWY 17, Amdt 2A

Elk City, OK, Elk City Rgnl Business, RNAV (GPS) RWY 35, Amdt 2A

Stigler, OK, Stigler Rgnl, RNAV (GPS) RWY 35, Amdt 1C

Newport, OR, Newport Muni, VOR RWY 16, Amdt 9B

Portland, OR, Portland Intl, RNAV (RNP) Z RWY 28R, Amdt 1C

Johnstown, PA, John Murtha Johnstown-Cambria Co, ILS OR LOC RWY 33, Amdt 7B

Johnstown, PA, John Murtha Johnstown-Cambria Co, VOR RWY 5, Amdt 6A

Johnstown, PA, John Murtha Johnstown-Cambria Co, VOR Y RWY 15, Amdt 9A

Johnstown, PA, John Murtha Johnstown-Cambria Co, VOR Y RWY 23, Amdt 8B

Johnstown, PA, John Murtha Johnstown-Cambria Co, VOR Z RWY 15, Amdt 7A

Selinsgrove, PA, Penn Valley, RNAV (GPS) RWY 17, Amdt 1A

Selinsgrove, PA, Penn Valley, RNAV (GPS) RWY 35, Orig-A

Selinsgrove, PA, Penn Valley, VOR-A, Amdt 7D

Wilkes-Barre, PA, Wilkes-Barre Wyoming Valley, RNAV (GPS) RWY 7, Orig-B

Darlington, SC, Darlington County, VOR-A, Amdt 7B

Milbank, SD, Milbank Muni, RNAV (GPS) RWY 31, Orig-A

Paris, TN, Henry County, RNAV (GPS) RWY 20, Amdt 1A

Sparta, TN, Upper Cumberland Rgnl, ILS OR LOC RWY 4, Amdt 1B

Sparta, TN, Upper Cumberland Rgnl, NDB RWY 4, Amdt 4B

Sparta, TN, Upper Cumberland Rgnl, RNAV (GPS) RWY 4, Orig-D

Angleton/Lake Jackson, TX, Texas Gulf Coast Rgnl, ILS OR LOC RWY 17, Amdt 6

Crosbyton, TX, Crosbyton Muni, RNAV (GPS) RWY 17, Amdt 1

Dallas, TX, Dallas Love Field, ILS Y OR LOC Y RWY 13R, Amdt 6B

Dallas-Fort Worth, TX, Dallas-Fort Worth Intl, ILS OR LOC RWY 13R, ILS RWY 13R SA CAT I, ILS RWY 13R SA CAT II, Amdt 9B

Georgetown, TX, Georgetown Muni, RNAV (GPS) RWY 18, Amdt 2A

Georgetown, TX, Georgetown Muni, RNAV (GPS) RWY 36, Amdt 2A

Harlingen, TX, Valley Intl, Takeoff Minimums and Obstacle DP, Orig-A

Houston, TX, Ellington, ILS Z OR LOC Z RWY 17R, Amdt 7

Houston, TX, Ellington, ILS Z OR LOC Z RWY 22, Amdt 4

Houston, TX, Ellington, ILS Z OR LOC Z RWY 35L, Amdt 7

Houston, TX, Ellington, RNAV (GPS) RWY 22, Amdt 2D

Houston, TX, Sugar Land Rgnl, RNAV (GPS) RWY 17, Amdt 2A

Kenedy, TX, Kenedy Rgnl, RNAV (GPS) RWY 16, Orig-C

Kenedy, TX, Kenedy Rgnl, RNAV (GPS) RWY 34, Orig-B

Kenedy, TX, Kenedy Rgnl, Takeoff Minimums and Obstacle DP, Amdt 2A

Kenedy, TX, Kenedy Rgnl, VOR-A, Amdt 7A

Palestine, TX, Palestine Muni, VOR RWY 18, Amdt 6

Taylor, TX, Taylor Muni, VOR RWY 17, Amdt 1C

Temple, TX, Draughon-Miller Central Texas Rgnl, ILS OR LOC RWY 15, Amdt 13

Temple, TX, Draughon-Miller Central Texas Rgnl, RNAV (GPS) RWY 2, Amdt 1, CANCELLED

Temple, TX, Draughon-Miller Central Texas Rgnl, RNAV (GPS) RWY 15, Amdt 2A

Temple, TX, Draughon-Miller Central Texas Rgnl, RNAV (GPS) RWY 33, Amdt 2A

Temple, TX, Draughon-Miller Central Texas Rgnl, VOR RWY 33, Amdt 4A, CANCELLED

Tyler, TX, Tyler Pounds Rgnl, ILS OR LOC RWY 13, Amdt 22, CANCELLED

Tyler, TX, Tyler Pounds Rgnl, RNAV (GPS) RWY 22, Amdt 3A

Tyler, TX, Tyler Pounds Rgnl, VOR RWY 4, Amdt 5A

Tyler, TX, Tyler Pounds Rgnl, VOR RWY 31, Amdt 3A

Van Horn, TX, Culberson County, JURDU ONE, Graphic DP

Van Horn, TX, Culberson County, Takeoff Minimums and Obstacle DP, Amdt 1

Waco, TX, TSTC Waco, NDB RWY 35R, Amdt 12

Waco, TX, TSTC Waco, RNAV (GPS) RWY 35R, Amdt 2

Waco, TX, Waco Rgnl, VOR RWY 14, Amdt 23C

Beaver, UT, Beaver Muni, RNAV (GPS)-A, Orig-A

Bryce Canyon, UT, Bryce Canyon, RNAV (GPS) RWY 3, Orig-D

Heber, UT, Heber Valley, RNAV (GPS)-A, Amdt 3A

Heber, UT, Heber Valley, Takeoff Minimums and Obstacle DP, Amdt 4A

Hot Springs, VA, Ingalls Field, ILS OR LOC RWY 25, Amdt 5

Louisa, VA, Louisa County/Freeman Field, LOC RWY 27, Amdt 4

Louisa, VA, Louisa County/Freeman Field, RNAV (GPS) RWY 9, Amdt 1

Louisa, VA, Louisa County/Freeman Field, RNAV (GPS) RWY 27, Amdt 2

Norfolk, VA, Hampton Roads Executive, RNAV (GPS) RWY 10, Amdt 1

Norfolk, VA, Hampton Roads Executive, RNAV (GPS) RWY 28, Orig

Roanoke, VA, Roanoke-Blacksburg Rgnl/Woodrum Field, Takeoff Minimums and Obstacle DP, Amdt 11A

Roanoke, VA, Roanoke-Blacksburg Rgnl/Woodrum Field, VOR/DME-A, Amdt 7B

Winchester, VA, Winchester Rgnl, RNAV (GPS) RWY 14, Amdt 1B

Bellingham, WA, Bellingham Intl, ILS OR LOC RWY 16, ILS RWY 16 SA CAT I, Amdt 8A

Bellingham, WA, Bellingham Intl, RNAV (GPS) Y RWY 16, Amdt 3C

Bellingham, WA, Bellingham Intl, RNAV (RNP) Z RWY 16, Amdt 1A

Bellingham, WA, Bellingham Intl, RNAV (RNP) Z RWY 34, Amdt 1A

Chetek, WI, Chetek Muni-Southworth, RNAV (GPS) RWY 35, Orig-D

Kenosha, WI, Kenosha Rgnl, RNAV (GPS) RWY 15, Orig-B

Mosinee, WI, Central Wisconsin, ILS OR LOC RWY 8, Amdt 14A

Mosinee, WI, Central Wisconsin, RNAV (GPS) RWY 8, Amdt 1D

Wausau, WI, Wausau Downtown, RNAV (GPS) RWY 13, Amdt 1B

Wausau, WI, Wausau Downtown, RNAV (GPS) RWY 31, Amdt 1A

Wisconsin Rapids, WI, Alexander Field South Wood County, RNAV (GPS) RWY 2, Orig-B

Clarksburg, WV, North Central West Virginia, ILS OR LOC RWY 21, Amdt 4A

Clarksburg, WV, North Central West Virginia, RNAV (GPS) RWY 3, Amdt 2A

Clarksburg, WV, North Central West Virginia, RNAV (GPS) RWY 21, Amdt 2A

Martinsburg, WV, Eastern WV Rgnl/Shepherd Fld, RNAV (GPS) RWY 8, Amdt 1C

Rawlins, WY, Rawlins Muni/Harvey Field, Takeoff Minimums and Obstacle DP, Amdt 6

Sheridan, WY, Sheridan County, RNAV (GPS) RWY 15, Amdt 1A

Sheridan, WY, Sheridan County, Takeoff Minimums and Obstacle DP, Amdt 4A

[FR Doc. 2019-14130 Filed 7-3-19; 8:45 am]

BILLING CODE 4910-13-P